SECURITIES AND EXCHANGE COMMISSION

[Release No. 34-74559A; File No. SR-NYSEArca-2014-100]

Self-Regulatory Organizations; NYSE Arca, Inc.; Notice of Designation of a Longer Period for Commission Action on Proceedings To Determine Whether To Approve or Disapprove a Proposed Rule Change, as Modified by Amendment No. 1 Thereto, Relating To Listing and Trading of Shares of the SPDR SSgA Global Managed Volatility ETF Under NYSE Arca Equities Rule 8.600; Correction

April 13, 2015.

AGENCY: Securities and Exchange Commission.

ACTION: Notice; correction.

SUMMARY: The Securities and Exchange Commission published a document in the Federal Register of March 26, 2015, concerning a Notice of Designation of a Longer Period for Commission Action on Proceedings to Determine Whether To Approve or Disapprove a Proposed Rule Change, as Modified by Amendment No. 1 Thereto, Relating To Listing and Trading of Shares of the SPDR SSgA Global Managed Volatility ETF Under NYSE Arca Equities Rule 8.600 by NYSE Arca, Inc.; the document contained an incorrect date.

FOR FURTHER INFORMATION CONTACT: Leigh Duffy, Division of Trading and Markets, Securities and Exchange Commission, 100 F Street NE., Washington, DC 20549, (202) 551-5928.

Correction

In the Federal Register of March 26, 2015, in FR Doc. 2015-06892, on page 16047, in the thirty-first line of the third column, correct the date May 7, 2015 to read May 22, 2015.

For the Commission, by the Division of Trading and Markets, pursuant to delegated authority.¹
¹ 17 CFR 200.30-3(a)(57).
Brent J. Fields,
Secretary.

[FR Doc. 2015-08791 Filed 4-16-15; 8:45 am]

BILLING CODE 8011-01-P